Title 3—

The President

Proclamation 7728 of October 31, 2003

National Alzheimer's Disease Awareness Month, 2003

By the President of the United States of America

A Proclamation

Recent studies estimate that 4.5 million Americans are affected by Alzheimer's disease, and that more than 13 million will be affected by the middle of this century. As we seek to increase our understanding of the causes, symptoms, and effects of this disease, we recognize the victims and the family members, caregivers, and healthcare professionals who care for those afflicted with it.

Researchers have not yet discovered the cause of Alzheimer's disease, but its effects are well documented. Alzheimer's disrupts the processes that keep nerve cells in the brain healthy, resulting in a decline in cognitive abilities. Those affected by Alzheimer's disease grow increasingly dependent on others.

Alzheimer's disease has no known cure or certain treatment, but research will continue to lead us to breakthroughs that will help control the symptoms of Alzheimer's disease or eventually cure or even reverse its effects. We are supporting Alzheimer's research and helping those afflicted with the disease get care. Through the National Institute on Aging (NIA), we are funding Alzheimer's Disease Centers across the country that care for patients, improve diagnostic techniques, and participate in long-term research. The NIA also operates the Alzheimer's Disease Education and Referral Center, which provides vital information to people with Alzheimer's disease and their caregivers. In addition, scientists at the National Institutes of Health and the Department of Veterans Affairs are conducting clinical trials of drugs and enhancing overall care.

During National Alzheimer's Disease Awareness Month, we especially thank all who care for those affected by this tragic disease. By caring for patients and continuing vital research, we strive to improve the quality of life for today's victims and enhance the health of future generations.

NOW, THEREFORE, I, GEORGE W. BUSH, President of the United States of America, by virtue of the authority vested in me by the Constitution and laws of the United States, do hereby proclaim November 2003 as National Alzheimer's Disease Awareness Month. I call upon the people of the United States to observe this month with appropriate programs and activities.

IN WITNESS WHEREOF, I have hereunto set my hand this thirty-first day of October, in the year of our Lord two thousand three, and of the Independence of the United States of America the two hundred and twenty-eighth.

B

[FR Doc. 03-28001

Filed 11-4-03; 8:45 am]

Billing code 3195-01-P